DEPARTMENT OF ENERGY

Federal Energy Regulatory Commission

[Project No. 14867-003]

Scott's Mill Hydro, LLC; Notice of Application Tendered for Filing With the Commission and Soliciting Additional Study Requests

Take notice that the following hydroelectric application has been filed with the Commission and is available for public inspection.

a. Type of Application: Original Major License.

b. Project No.: 14867-003.

c. Date filed: March 21, 2022.

d. Applicant: Scott's Mill Hydro, LLC.

e. Name of Project: Scott's Mill Hydroelectric Project.

f. Location: On the James River, near the City of Lynchburg, in Bedford and Amherst Counties, Virginia. No federal or tribal land would be occupied by project works or located within the project boundary.

g. Filed Pursuant to: Federal Power Act 16 U.S.C. 791(a)-825(r).

h. Applicant Contact: Mr. Mark Fendig, P.O. Box 13, Coleman Falls, VA 24536; phone: (540) 320-6762.

i. FERC Contact: Jody Callihan, phone: (202) 502-8278 or email at jody.callihan@ferc.gov.

j. Cooperating agencies: Federal, state, local, and tribal agencies with jurisdiction and/or special expertise with respect to environmental issues that wish to cooperate in the preparation of the environmental document should follow the instructions for filing such requests described in item l below. Cooperating agencies should note the Commission's policy that agencies that cooperate in the preparation of the environmental document cannot also intervene. See, 94 FERC ¶ 61,076 (2001).

k. Pursuant to section 4.32(b)(7) of the Commission's regulations, if any resource agency, Indian Tribe, or person believes that an additional scientific study should be conducted in order to form an adequate factual basis for a complete analysis of the application on its merit, the resource agency, Indian Tribe, or person must file a request for a study with the Commission not later than 60 days from the date of filing of the application and serve a copy of the request on the applicant.

l. Deadline for filing additional study requests and requests for cooperating agency status: May 20, 2022.

The Commission strongly encourages electronic filing. Please file additional study requests and requests for cooperating agency status using the Commission's eFiling system at http://www.ferc.gov/docs-filing/efiling.asp. For assistance, please contact FERC Online Support at FERCOnlineSupport@ferc.gov, (866) 208-3676 (toll free), or (202) 502-8659 (TTY). In lieu of electronic filing, you may submit a paper copy. Submissions sent via the U.S. Postal Service must be addressed to: Kimberly D. Bose, Secretary, Federal Energy Regulatory Commission, 888 First Street NE, Room 1A, Washington, DC 20426. Submissions sent via any other carrier must be addressed to: Kimberly D. Bose, Secretary, Federal Energy Regulatory Commission, 12225 Wilkins Avenue, Rockville, Maryland 20852. All filings must clearly identify the project name and docket number on the first page: Scott's Mill Project (P-14867-003).

m. The application is not ready for environmental analysis at this time.

n. The Scott's Mill Hydroelectric Project would consist of: (1) An existing masonry dam containing two spillways separated by a 25-foot-wide stone pier, with one 735-foot-long, 15-foot-high overflow spillway and the other a 140-foot-long, 16-foot-high arch-section spillway; (2) an impoundment with a surface area of 305 acres at the normal pool elevation of 516.4 feet North American Vertical Datum of 1988 (NAVD 88); (3) a new modular powerhouse containing nine generating units with a total installed capacity of 4.5 megawatts that would be installed immediately downstream of the existing arch-section spillway of the dam; (4) a new 1,200-foot-long overhead transmission line; and (5) appurtenant facilities.

To increase flow through the modular powerhouse, Scott's Mill proposes to remove the top 6.8 feet of the existing arch-section spillway of the dam and add a 2-foot-high concrete cap to the existing overflow spillway. Scott's Mill proposes to operate the project in a run-of-river mode, except on the 10 days of peak annual electrical demand in the Pennsylvania-New Jersey-Maryland (PJM) regional transmission organization, during which time the project may operate in a peaking mode for up to two hours per day. The estimated annual energy production of the project is 20,700 megawatt-hours.

o. Copies of the application may be viewed on the Commission's website at http://www.ferc.gov using the “eLibrary” link. Enter the docket number excluding the last three digits in the docket number field to access the document (P-14867). For assistance, contact FERC Online Support at FERCOnlineSupport@ferc.gov or call toll-free, (866) 208-3676 or (202) 502-8659 (TTY).

You may also register online at http://www.ferc.gov/docs-filing/esubscription.asp to be notified via email of new filings and issuances related to this or other pending projects. For assistance, contact FERC Online Support.

p. Procedural schedule: The application will be processed according to the following preliminary schedule. Revisions to the schedule will be made as appropriate.

Issue Deficiency Letter (if necessary)—May 2022

Request Additional Information (if necessary)—May 2022

Issue Acceptance Letter—July 2022

Issue Scoping Document 1 for comments—August 2022

Issue Scoping Document 2 (if necessary)—September 2022

Issue Notice of Ready for Environmental Analysis—September 2022

Dated: March 29, 2022.
Debbie-Anne A. Reese,
Deputy Secretary.

[FR Doc. 2022-07036 Filed 4-1-22; 8:45 am]

BILLING CODE 6717-01-P